DEPARTMENT OF AGRICULTURE

Forest Service

Siskiyou County Resource Advisory Committee (RAC); Meeting

AGENCY: Forest Service, USDA.

ACTION: Notice of meeting.

SUMMARY: The Siskiyou County Resource Advisory Committee (RAC) will meet on January 21, 2002, in Yreka, California. The purpose of the meeting is organizational and will serve as an orientation to RAC committee members regarding the Secure Rural School and Community Self-Determination Act of 2000.

DATES: The meeting will be held January 21, 2002 from 3 p.m. to 8 p.m.

ADDRESSES: The meeting will be held at the Miners Inn and Convention Center, 122 E. Miner Street, Yreka, California.

FOR FURTHER INFORMATION CONTACT: Heidi Perry, Meeting Coordinator, USDA, Klamath National Forest, 1312 Fairlane Road, Yreka, California, 96097, (530) 841-4468; e-mail hperry@fs.fed.us.

SUPPLEMENTARY INFORMATION: Agenda items to be covered include: (1) Roles and Responsibilities for Advisory Committees; (2) Rules, Operational Guides and Conflict of Interests; (3) Project Submittal Process; (4) Project Timelines (5) Public Proposal Workshop (6) Public Comment. The meeting is open to the public. Public input opportunity will be provided and individuals will have the opportunity to address the Committee at that time.

Dated: December 13, 2001.
Margaret J. Boland,
Forest Supervisor.

[FR Doc. 01-31698 Filed 12-26-01; 8:45 am]

BILLING CODE 3410-11-M